CONSUMER PRODUCT SAFETY COMMISSION

Petition Requesting Rule Requiring Product Registration Cards for Products Intended for Children

AGENCY: Consumer Product Safety Commission.

ACTION: Notice.

SUMMARY: The Commission has received a petition (CP 01-01) requesting that the Commission issue a rule requiring product registration cards accompany every product intended for use by children. The Commission solicits written comments concerning the petition.

DATES: The Office of the Secretary must receive comments on the petition by October 1, 2001.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition CP 01-01, Petition for Product Registration Cards.” A copy of the petition is available for inspection at the Commission's Public Reading Room, Room 419, 4330 East-West Highway, Bethesda, Maryland.

FOR FURTHER INFORMATION CONTACT: Rockelle Hammond, Office of the Secretary, Consumer Product Safety Commission, Washington, DC 20207; telephone (301) 504-0800, ext. 1232.

SUPPLEMENTARY INFORMATION: The Commission has received correspondence from the Consumer Federation of America (“CFA”) requesting that the Commission issue a rule “requiring manufacturers (or distributors, retailers, or importers) of products intended for children provide along with every product a Consumer Registration Card that allows the purchaser to register information, through the mail or electronically.” CFA also requested that the Commission issue rules requiring that (1) the remedy for recalls of products intended for children remain in effect indefinitely or as long as the affected company is in business and (2) identification information be permanently provided on every product intended for children. These requests have not been docketed as petitions at this time.

CFA requested that the Commission take action under section 10 of the Federal Hazardous Substances Act (“FHSA”), 15 U.S.C. 1269(a). However, the General Counsel believes that the more appropriate authority for product registration cards is section 16(b) of the Consumer Product Safety Act (“CPSA”), id. 2065(b), and has docketed the petition under that provision of the CPSA.

The petitioner states that a registration card system would improve the effectiveness of recalls because it would enable a manufacturer to contact the purchaser directly if a product were recalled or otherwise presented a safety hazard. CFA examined existing consumer warranty or registration cards included with some new products. CFA found that often these cards do not state that they could be used to provide notice of recalls, are primarily used to collect marketing and consumer data, rarely provide pre-paid postage, and generally do not protect consumer privacy.

The petitioner states that a Commission rule should require a system in which registration cards (1) collect only information needed to contact the purchaser (e.g., name and address or email address); (2) have the postage paid by the manufacturer (distributor, retailer, or importer); (3) provide the name and model number of the product purchased; and (4) state that the information collected will only be used to advise the purchaser of a recall or other important safety information. The petitioner asks that the rule require the manufacturer (or distributor, retailer, or importer) to maintain this information for a minimum of 20 years, or the useful life of the product, whichever is longer. CFA also asks that the rule require manufacturers (or distributors, retailers, or importers) provide reports to CPSC on the return rate of these cards.

Interested parties may obtain a copy of the petition by writing or calling the Office of the Secretary, Consumer Product Safety Commission, Washington, DC 20207; telephone (301) 504-0800. A copy of the petition is also available for inspection from 8:30 a.m. to 5 p.m., Monday through Friday, in the Commission's Public Reading Room, Room 419, 4330 East-West Highway, Bethesda, Maryland.

Dated: July 26, 2001.
Todd Stevenson,
Acting Secretary, Consumer Product Safety Commission.

[FR Doc. 01-19073 Filed 7-31-01; 8:45 am]

BILLING CODE 6355-01-P